DEPARTMENT OF THE TREASURY

Submission for OMB Review; Comment Request

June 6, 2014.

The Department of the Treasury will submit the following information collection requests to the Office of Management and Budget (OMB) for review and clearance in accordance with the Paperwork Reduction Act of 1995, Public Law 104-13, on or after the date of publication of this notice.

DATES: Comments should be received on or before July 11, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission(s) may be obtained by emailing PRA@treasury.gov, calling (202) 622-1295, or viewing the entire information collection request at www.reginfo.gov.

Financial Crimes Enforcement Network (FinCEN)

OMB Number: 1506-0012.

Type of Review: Revision of a currently approved collection.

Title: Bank Secrecy Act Designation of Exempt Person (DOEP) Report.

Form: Form 110.

Abstract: The Bank Secrecy Act and its implementing regulations require banks to file currency transaction reports (CTRs) on transactions in currency of more than $10,000. The regulations also permit a bank to exempt certain persons from currency transaction reporting in accordance with 31 CFR 1020.315.

Banks are the only type of financial institutions that may exempt customers from CTR filing requirements. The term “bank” is defined in 31 CFR 1010.100(d) and includes savings and loan associations, thrift institutions, and credit unions. A bank that wishes to designate a customer as an exempt person must file FinCEN Form 110.

Affected Public: Businesses or other for-profit organizations; Not-for-profit institutions.

Estimated Annual Burden Hours: 31,450.

Brenda Simms,
Treasury PRA Clearance Officer.

[FR Doc. 2014-13581 Filed 6-10-14; 8:45 am]

BILLING CODE 4810-02-P